DEPARTMENT OF ENERGY

Secretary of Energy Advisory Board

AGENCY: Department of Energy.

ACTION: Notice of open meeting.

SUMMARY: The Department of Energy hereby publishes a notice of open meeting of the Secretary of Energy Advisory Board (SEAB). This meeting will be held virtually for members of the public and for SEAB members. The Federal Advisory Committee Act requires that public notice of these meetings be announced in the Federal Register.

DATES: Tuesday, January 16, 2024; 12:15 p.m.-2:15 p.m. eastern time.

ADDRESSES: Virtual meeting for members of the public, Board members, Department of Energy (DOE) representatives, agency liaisons, and Board support staff. Registration is required by registering at the SEAB January 16 meeting page at: www.energy.gov/seab/seab-meetings.

FOR FURTHER INFORMATION CONTACT: David Borak, Designated Federal Officer, U.S. Department of Energy, 1000 Independence Avenue SW, Washington, DC 20585; email: seab@hq.doe.gov; telephone: (202) 586-5216.

SUPPLEMENTARY INFORMATION:

Background: The Board was established to provide advice and recommendations to the Secretary on the Administration's energy policies; the Department's basic and applied research and development activities; economic and national security policy; and other activities as directed by the Secretary.

Purpose of the Meeting: This is the tenth meeting of Secretary Jennifer M. Granholm's SEAB.

Tentative Agenda: The tentative meeting agenda includes: roll call; remarks from the Secretary of Energy; updates from the Accelerating Clean Energy Deployment Working Group, the Laboratory Entrepreneurship Ecosystems Working Group, and the Artificial Intelligence Working Group; and public comments. The meeting will conclude at approximately 2:15 p.m. Meeting materials can be found here: https://www.energy.gov/seab/seab-meetings.

Public Participation: The meeting is open to the public via a virtual meeting option. Individuals who would like to attend must register for the meeting here: https://www.energy.gov/seab/seab-meetings.

Individuals and representatives of organizations who would like to offer comments and suggestions may do so during the meeting. Approximately 15 minutes will be reserved for public comments. Time allotted per speaker will depend on the number who wish to speak but will not exceed three minutes. The Designated Federal Officer is empowered to conduct the meeting in a fashion that will facilitate the orderly conduct of business. Those wishing to speak should register to do so via email, seab@hq.doe.gov, no later than 5 p.m. on Friday, January 12, 2024.

Those not able to attend the meeting or who have insufficient time to address the committee are invited to send a written statement to David Borak, U.S. Department of Energy, 1000 Independence Avenue SW, Washington, DC 20585, or email to: seab@hq.doe.gov.

Minutes: The minutes of the meeting will be available on the SEAB website or by contacting Mr. Borak. He may be reached at the above postal address or email address, or by visiting SEAB's website at www.energy.gov/seab.

Signed in Washington, DC, on December 14, 2024.
LaTanya Butler,
Deputy Committee Management Officer.

[FR Doc. 2023-27904 Filed 12-19-23; 8:45 am]

BILLING CODE 6450-01-P